DEPARTMENT OF TRANSPORTATION

Federal Aviation Administration

14 CFR Part 95

[Docket No. 31282; Amdt. No. 549]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective: 0901 UTC, December 5, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on November 1, 2019.
Rick Domingo,
Executive Director, Flight Standards Service.

Adoption of the Amendment

Accordingly, pursuant to the authority delegated to me by the Administrator, part 95 of the Federal Aviation Regulations (14 CFR part 95) is amended as follows effective at 0901 UTC, December 5, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 549 Effective Date, December 05, 2019]
From | To | MEA | MAA
§ 95.4000 High Altitude RNAV Routes
§ 95.4121 RNAV Route Q121 Is Amended To Read In Part
POCATELLO, ID VOR/DME | SWTHN, MT WP | *24000 | 45000
*18000—GNSS MEA
*DME/DME/IRU MEA
§ 95.4156 RNAV Route Q156 Is Amended To Read In Part
HEXOL, MT FIX | SWTHN, MT WP | *24000 | 45000
*18000—GNSS MEA
*DME/DME/IRU MEA
SWTHN, MT WP | JELRO, SD FIX | *28000 | 45000
*18000—GNSS MEA
*DME/DME/IRU MEA
JELRO, SD FIX | KEKPE, SD WP | *28000 | 45000
*18000—GNSS MEA
*DME/DME/IRU MEA
KEKPE, SD WP | UFFDA, MN WP | *28000 | 45000
*18000—GNSS MEA
*DME/DME/IRU MEA
UFFDA, MN WP | HSTIN, MN WP | *28000 | 45000
*18000—GNSS MEA
*DME/DME/IRU MEA

From | To | MEA
§ 95.6001 Victor Routes—U.S
§ 95.6004 VOR Federal Airway V4 Is Amended To Read In Part
CHARLESTON, WV VOR/DME | REACH, WV FIX | 4000
§ 95.6020 VOR Federal Airway V20 Is Amended To Read In Part
CORPUS CHRISTI, TX VORTAC | BETZY, TX FIX | 1800
§ 95.6035 VOR Federal Airway V35 Is Amended To Read In Part
GLADE SPRING, VA VOR/DME | MACET, WV FIX | #6500
#GZG TO COP UNUSABLE EXCEPT FOR AIRCRAFT WITH SUITABLE RNAV SYSTEM WITH GPS
MACET, WV FIX | CHARLESTON, WV VOR/DME |
| N BND | 4500
| S BND | 6500
§ 95.6070 VOR Federal Airway V70 Is Amended To Read In Part
CORPUS CHRISTI, TX VORTAC | BETZY, TX FIX | 1800
§ 95.6115 VOR Federal Airway V115 Is Amended To Read In Part
HAZARD, KY VOR/DME | *CHARLESTON, WV VOR/DME | **6000
*4800—MCA | CHARLESTON, WV VOR/DME, SW BND
**4000—GNSS MEA
§ 95.6133 VOR FEDERAL AIRWAY V133 Is Amended To Read In Part
STOVE, VA FIX | PINEE, WV FIX | *13000
*7000—MOCA
PINEE, WV FIX | *CHARLESTON, WV VOR/DME |
| N BND | **7000
| S BND | **13000
*8500—MCA | CHARLESTON, WV VOR/DME, S BND |
**5600—MOCA
**5600—GNSS MEA
§ 95.6155 VOR Federal Airway V155 Is Amended To Read In Part
WIPER, NC FIX | LAWRENCEVILLE, VA VORTAC | #*8000
*2000—MOCA
*2300—GNSS MEA
#LAWRENCEVILLE R-225 UNUSABLE, USE RALEIGH/DURHAM R-046
*MANGE, VA FIX | FLAT ROCK, VA VORTAC | **5000
*5000—MRA
**1800—MOCA
**2000—GNSS MEA
§ 95.6257 VOR Federal Airway V257 Is Amended To Read In Part
PHOENIX, AZ VORTAC | AVENT, AZ FIX |
| NW BND | 14000
| SE BND | 5000
*8000—MRA
*9400—MCA | PHOENIX, AZ VORTAC, NW BND
*AVENT, AZ FIX | **BANYO, AZ FIX |
| NW BND | 14000
| SE BND | 5000
*8000—MRA
**6000—MRA
*BANYO, AZ FIX | COYOT, AZ FIX |
| NW BND | **14000
| SE BND | **9000
*6000—MRA
**8100—MOCA
COYOT, AZ FIX | *MAIER, AZ FIX | **14000
*14000—MCA | MAIER, AZ FIX, SE BND
**9000—GNSS MEA
MAIER, AZ FIX | *DRAKE, AZ VORTAC |
| NW BND | 10000
| SE BND | 14000
*12000—MCA | DRAKE, AZ VORTAC, SE BND
§ 95.6258 VOR Federal Airway V258 Is Amended To Read In Part
CHARLESTON, WV VOR/DME | BECKLEY, WV VOR/DME | 5500
§ 95.6309 VOR FEDERAL AIRWAY V309 Is Amended To Read In Part
CHARLESTON, WV VOR/DME | JULEA, WV FIX | **5000
*5000—MRA
*5700—MCA | JULEA, WV FIX, NE BND |
**3200—MOCA
**3200—GNSS MEA
*JULEA, WV FIX | RANDE, WV FIX | **7000
*5000—MRA
**3200—MOCA
**3200—GNSS MEA
§ 95.6378 VOR Federal Airway V378 Is Amended To Read In Part
BALTIMORE, MD VORTAC | *BELAY, MD FIX | 2300
*9500—MCA | BELAY, MD FIX, NE BND
§ 95.6454 VOR FEderal Airway V454 Is Amended To Read In Part
LIBERTY, NC VORTAC | NOKIY, VA FIX | *6000
*3000—GNSS MEA
NOKIY, VA FIX | LAWRENCEVILLE, VA VORTAC | *8000
*3000—GNSS MEA
#LAWRENCEVILLE R-242 UNUSABLE, USE LIBERTY R-056
LAWRENCEVILLE, VA VORTAC | JUNKI, VA FIX | #*6000
*1900—MOCA
*2000—GNSS MEA
#LAWRENCEVILLE R-059 UNUSABLE, USE HOPEWELL R-237.

Airway Segment: From | Airway Segment: To | Changeover points: Distance | Changeover points: From
§ 95.8003 VOR Federal Airway Changeover Point V258 Is Amended To Modify Changeover Point
CHARLESTON, WV VOR/DME | BECKLEY, WV VOR/DME | 20 | CHARLESTON

[FR Doc. 2019-24345 Filed 11-7-19; 8:45 am]

BILLING CODE 4910-13-P